DEPARTMENT OF ENERGY

Federal Energy Regulatory Commission

[Docket No. OR18-6-000]

Occidental Energy Marketing, Inc. v. BridgeTex Pipeline Company, LLC; Notice of Complaint

Take notice that on November 21, 2017, pursuant to sections 1(4), 3(1), and 13(1) of the Interstate Commerce Act (ICA), 49 U.S.C. app. 1(4), 3(1), and 13(1) (1988), and Rule 206 of the Federal Energy Regulatory Commission's (Commission) Rules of Practice and Procedure, 18 CFR 385.206 (2017), and sections 343.1(a) and 343.2(c)(3) of the Commission's Procedural Rules Applicable to Oil Pipeline Proceedings, 18 CFR 343.1(a) and 343.2(c)(3), Occidental Energy Marketing, Inc., (Complainant) filed a formal complaint against BridgeTex Pipeline Company, LLC, (Respondent) alleging that, Respondent has unlawfully refused to provide service to Complainant under FERC Tariff Nos. 1.2.0 and 2.5.0, in violation of its duties as a common carrier under ICA section 1(4), all as more fully explained in the complaint.

Complainant certifies that copies of the complaint were served on the corporate representatives identified in Respondent's September 1, 2017 transmittal letter regarding the filing of BridgeTex FERC Tariff Nos. 4.0.0 and 5.0.0, as Respondent has not designated a person on the Commission's Corporate Officials List as representing Respondent in this action.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 11, 2017.

Dated: November 21, 2017.
Kimberly D. Bose,
Secretary.

[FR Doc. 2017-25724 Filed 11-28-17; 8:45 am]

BILLING CODE 6717-01-P